DEPARTMENT OF LABOR

Office of the Secretary

Combating Exploitive Child Labor Through Education in Guyana; Correction

AGENCY: Bureau of International Labor Affairs, Department of Labor.

ACTION: Correction.

SUMMARY: In notice document 05-9284 beginning on page 24635 in the issue of Tuesday, May 10, 2005, make the following correction:

On page 24635 in the first column, third sentence of Section II “Award Information”, the language, “The duration of the project(s) funded by this solicitation is four (4) years”, is incorrect. This sentence should be changed to read, “The duration of the project(s) funded by this solicitation must be between 30 months and 48 months.”.

Dated: June 10, 2005.
Lisa Harvey,
Grant Officer.

[FR Doc. 05-11876 Filed 6-15-05; 8:45 am]

BILLING CODE 4510-28-M